DEPARTMENT OF THE INTERIOR

National Park Service

[NPS-WASO-NAGPRA-NPS0026172; PPWOCRADN0-PCU00RP14.R50000]

Notice of Inventory Completion: U.S. Department of the Interior, Bureau of Indian Affairs, Washington, DC

AGENCY: National Park Service, Interior.

ACTION: Notice.

SUMMARY: The U.S. Department of the Interior, Bureau of Indian Affairs, has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the Bureau of Indian Affairs. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Bureau of Indian Affairs at the address in this notice by October 10, 2018.

ADDRESSES: Anna Pardo, Museum Program Manager/NAGPRA Coordinator, U.S. Department of the Interior, Bureau of Indian Affairs, 12220 Sunrise Valley Drive, Room 6084, Reston, VA 20191, telephone (703) 390-6343, email Anna.Pardo@bia.gov.

SUPPLEMENTARY INFORMATION: Notice is here given in accordance with the Native American Graves Protection and Repatriation Act (NAGPRA), 25 U.S.C. 3003, of the completion of an inventory of human remains under the control of the U.S. Department of the Interior, Bureau of Indian Affairs, Washington, DC. The human remains were removed from an unknown location in Alaska.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the U.S. Department of the Interior, Bureau of Indian Affairs professional staff in consultation with a physical anthropologist with extensive experience in forensic work with Alaska Native human remains. Based on the report of the physical anthropologist, the Bureau of Indian Affairs sent an inventory and letters inviting consultation to representatives of 133 Indian tribes (names of invited tribes available upon request). None of the invited tribes wished to consult.

History and Description of the Remains

At an unknown date in or about 1973, human remains representing, at minimum, two individuals were removed from an unknown location in Alaska. On or about December 5, 2014, these human remains were mailed to the Bureau of Indian Affairs Alaska Region Office in a box with a letter attached. The writer, “Madeline Hale,” stated that, “sometime around 1973, [Ms. Hale's] then boyfriend Mike went to Alaska and came back with [the enclosed human remains]. He said he'd found it out in the wilderness somewhere at an Indian burial ground.” No additional information was provided. Ms. Hale did not provide a return mailing address or any other contact information, and attempts to locate her were unsuccessful. No known individuals were identified. No associated funerary objects are present.

At the time of the excavation and removal of these human remains, the land from which the human remains were removed was not the tribal land of any Indian Tribe or Native Hawaiian organization. In May 2015, the U.S. Department of the Interior, Bureau of Indian Affairs sent letters to 133 Indian tribes who are recognized as aboriginal to the area from which these Native American human remains were most likely removed. The names of these invited tribes are available upon request. None of these Indian Tribes agreed to accept control of the human remains. In May 2018, the Bureau of Indian Affairs agreed to transfer control of the human remains to the Chinik Eskimo Community (Golovin); King Island Native Community; Native Village of Brevig Mission; Native Village of Council; Native Village of Diomede (aka Inalik); Native Village of Elim; Native Village of Gambell; Native Village of Koyuk; Native Village of Mary's Igloo; Native Village of Saint Michael; Native Village of Savoonga; Native Village of Shaktoolik; Native Village of Shishmaref; Native Village of Teller; Native Village of Unalakleet; Native Village of Wales; Native Village of White Mountain; Stebbins Community Association; and the Village of Solomon, hereafter referred to as “The Tribes.”

Determinations Made by the U.S. Department of the Interior, Bureau of Indian Affairs

Officials of the U.S. Department of the Interior, Bureau of Indian Affairs have determined that:

• Pursuant to 25 U.S.C. 3001(9), the human remains described in this notice are Native American based on cranial analysis by a physical anthropologist with extensive experience performing such analyses.

• Pursuant to 25 U.S.C. 3001(9), the human remains described in this notice represent the physical remains of two individuals of Native American ancestry.

• Pursuant to 25 U.S.C. 3001(2), a relationship of shared group identity cannot be reasonably traced between the Native American human remains and any present-day Indian Tribe.

• Pursuant to 43 CFR 10.11(c)(2)(i), the disposition of the human remains may be to The Tribes.

Additional Requestors and Disposition

Representatives of any Indian Tribe or Native Hawaiian organization not identified in this notice that wish to request transfer of control of these human remains should submit a written request with information in support of the request to Anna Pardo, Museum Program Manager/NAGPRA Coordinator, U.S. Department of the Interior, Bureau of Indian Affairs, 12220 Sunrise Valley Drive, Room 6084, Reston, VA 20191, telephone (703) 390-6343, email Anna.Pardo@bia.gov, by October 10, 2018. After that date, if no additional requestors have come forward, transfer of control of the human remains to The Tribes may proceed.

The U.S. Department of the Interior, Bureau of Indian Affairs is responsible for notifying The Tribes that this notice has been published.

Dated: August 3, 2018.
Melanie O'Brien,
Manager, National NAGPRA Program.

[FR Doc. 2018-19534 Filed 9-7-18; 8:45 am]

BILLING CODE 4312-52-P